DEPARTMENT OF EDUCATION

National Institute on Disability and Rehabilitation Research (NIDRR)—Disability and Rehabilitation Research Projects and Centers Program—Rehabilitation Research and Training Centers (RRTCs)—Effective Vocational Rehabilitation (VR) Service Delivery Practices

Catalog of Federal Domestic Assistance (CFDA) Number: 84.133B-8

AGENCY: Office of Special Education and Rehabilitative Services, Department of Education.

ACTION: Notice of proposed priority.

SUMMARY: The Assistant Secretary for Special Education and Rehabilitative Services proposes a priority for the Disability and Rehabilitation Research Projects and Centers Program administered by NIDRR. Specifically, this notice proposes a priority for an RRTC on Effective Vocational Rehabilitation (VR) Service Delivery Practices. The Assistant Secretary may use this priority for competitions in fiscal year (FY) 2010 and later years. We take this action to focus research attention on areas of national need. We intend this priority to improve rehabilitation services and outcomes for individuals with disabilities.

DATES: We must receive your comments on or before June 14, 2010.

ADDRESSES: Address all comments about this notice to Marlene Spencer, U.S. Department of Education, 400 Maryland Avenue, SW., Room 5133, Potomac Center Plaza (PCP), Washington, DC 20202-2700.

If you prefer to send your comments by e-mail, use the following address: marlene.spencer@ed.gov. You must include the term “Proposed Priority for a Center on Effective Vocational Rehabilitation Service Delivery Practices” in the subject line of your electronic message.

FOR FURTHER INFORMATION CONTACT: Marlene Spencer. Telephone: (202) 245-7532 or by e-mail: marlene.spencer@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for RRTC competitions in FY 2010 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in Room 5133, 550 12th Street, SW., PCP, Washington, DC, between the hours of 8:30 a.m. and 4 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act) (29 U.S.C. 701 et seq.).

RRTC Program

The purpose of the RRTC program is to improve the effectiveness of services authorized under the Rehabilitation Act through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

Proposed Priority:

This notice contains one proposed priority.

Effective Vocational Rehabilitation (VR) Service Delivery Practices

Background:

The Rehabilitation Act calls upon the Federal Government to play a leadership role in promoting the employment of individuals with disabilities, especially individuals with significant disabilities, in part by assisting States and service providers in fulfilling the aspirations of individuals with disabilities for meaningful and gainful employment and independent living (29 U.S.C. 701(b)(2)). Thirty-seven years after the Rehabilitation Act was enacted, VR service practitioners are providing services to individuals with the most significant disabilities largely without the benefit of research documenting the effectiveness of their service models or of specific VR practices (Pruett, Swett, Chan, Rosenthal, & Lee, 2008).

According to the Rehabilitation Services Administration's (RSA's) most recent data, 56 percent of all individuals who exited the VR program after receiving services under an individualized plan for employment achieved an employment outcome (RSA's Quarterly Cumulative Caseload Report (RSA-113)). In the regulations for the Department's State VR program, an employment outcome is defined as entering or retaining full-time or, if appropriate, part-time competitive employment, as defined in 34 CFR 361.5(b)(11), in the integrated labor market, supported employment, or any other type of employment in an integrated setting, including self-employment, telecommuting, or business ownership, that is consistent with an individual's strengths, resources, priorities, concerns, abilities, capabilities, interests, and informed choice (see 34 CFR 361.5(b)(16)).

However, there is tremendous variation in the employment outcomes and the earnings levels among VR customers. More knowledge about what accounts for the variation in outcomes among VR subpopulations is needed in order to improve employment outcomes, especially for those subpopulations with the poorest outcomes. RSA's public access database (the RSA-911 Case Service Report) provides detailed information on over 600,000 VR case closures per year and is a good source of information about outcomes among VR customers.

In addition, while research funded by NIDRR and others has led to improved knowledge about employment service systems, rehabilitation technology, VR-related translational research, and interventions for disability-specific populations, the level of evidence for promising practices is not yet compelling, leaving VR professionals with few evidence-based practices (Pruett, Swett, Chan, Rosenthal, & Lee, 2008; Casper & Carloni, 2007; Dew & Alan, 2005). Research is needed to identify promising VR practices and to determine the effectiveness of those practices. Research also is needed to develop, evaluate, and advance innovative interventions that will improve employment outcomes for VR customers.

References

Casper, E.S. & Carloni, C. (2007). Assessing the underutilization of supported employment services. Psychiatric Rehabilitation Journal, 30(3), 182-188.

Dew, D.W. & Alan, G.M. (Eds.). (2005). Innovative methods for providing VR services to individuals with psychiatric disabilities (Institute on Rehabilitation Issues Monograph No. 30). Washington, DC: The George Washington University, Center for Rehabilitation Counseling Research and Education.

Pruett, S., Swett, E., Chan, F., Rosenthal., D., & Lee, G. (2008). Empirical Evidence Supporting the Effectiveness of Vocational Rehabilitation. Journal of Rehabilitation, 74(1), 56-63.

Rehabilitation Act of 1973, as amended. 29 U.S.C. 701 et seq.

U.S. Department of Education. Rehabilitation Services Administration. (2009). Rehabilitation Services Administration's Quarterly Cumulative Caseload Report (RSA-113).

Proposed Priority:

The Assistant Secretary for Special Education and Rehabilitative Services proposes a priority for a Rehabilitation Research and Training Center (RRTC) on Effective Vocational Rehabilitation (VR) Service Delivery Practices. This RRTC must conduct research that contributes to new knowledge of VR service delivery practices that produce high-quality employment outcomes for VR customers. This RRTC will contribute to improved employment outcomes by generating new knowledge about effective practices that can be used by State VR agencies in serving their customers. This RRTC must focus on the delivery of VR services that are authorized in the Rehabilitation Act of 1973, as amended (Rehabilitation Act) (29 U.S.C. 701 et seq.). NIDRR will fund this research effort as a cooperative agreement in order to ensure close interaction between the grantee and staff from NIDRR and the Rehabilitation Services Administration (RSA).

Under this priority, the RRTC must contribute to the following outcomes:

(a) Increased knowledge of the variations among State VR agencies in achieving quality employment outcomes, including but not limited to wages and hours of work, for subpopulations of individuals with significant disabilities, as defined in the Rehabilitation Act (29 U.S.C. 705(21)(A) and (D)), who have lower than average employment outcomes rates, wages, and hours of work. The RRTC must contribute to this outcome by analyzing relevant RSA datasets that provide information on the outcomes of these subpopulations of individuals with significant disabilities and by systematically gathering input from VR counselors and administrators, RSA staff, VR customers, and community rehabilitation programs. This analysis will help to identify promising practices by identifying agencies that demonstrate statistically better than average employment outcome rates and quality employment outcomes for these subpopulations of VR customers. The RRTC must complete this work within six months of award of the cooperative agreement.

(b) Improved knowledge of specific VR service delivery practices that have strong potential for improving employment outcomes for the subpopulations of VR customers identified in paragraph (a) of this priority. The RRTC must contribute to this outcome by conducting in-depth case studies of VR agencies where data demonstrate quality employment outcomes that are statistically better than average for the subpopulations of VR customers identified in paragraph (a) above compared to VR agencies that demonstrate average employment outcomes for the same subpopulations. NIDRR and RSA staff must approve the topics for the case studies and the agencies that will serve as sites for these studies. The applicant must budget to conduct two to three in-depth case studies. These case studies must identify the elements of the promising practices, the barriers to and facilitators of the implementation of the practices, and the outcomes of the practices. The RRTC must complete this work by the end of year two of the cooperative agreement.

(c) New knowledge of VR service delivery practices that are effective in producing high-quality employment outcomes for VR customers, especially those identified in paragraph (a) of this priority. The RRTC must contribute to this outcome by conducting research that rigorously tests the service delivery practices identified in paragraph (b) of this priority. The RRTC must test at least one intervention in each of the sites that are the subjects of the case studies.

(d) Enhanced likelihood of adoption of service delivery practices that demonstrate effectiveness as described in paragraph (c) of this priority. The RRTC must contribute to this outcome by developing implementation strategies and tools that will facilitate introduction and use of newly identified effective practices in other VR settings.

In addition, through coordination with the NIDRR Project Officer, this RRTC must—

• Collaborate with existing RSA grantees, including Regional Technical Assistance and Continuing Education (TACE) Centers, RSA's Technical Assistance Network, and RSA's National Technical Assistance Coordinator to disseminate new knowledge to key stakeholders; and

• Collaborate with existing NIDRR grantees, including the RRTC on VR, the Center on Effective Delivery of Rehabilitation Technology by VR Agencies, and the Research and Technical Assistance Center on VR Program Management.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of costs and benefits:

The benefits of the Disability and Rehabilitation Research Projects and Centers Programs have been well established over the years in that similar projects have been completed successfully. This proposed priority will generate new knowledge through research and development.

Another benefit of this proposed priority is that the establishment of a new RRTC will improve the lives of individuals with disabilities. The new RRTC will generate, disseminate, and promote the use of new information that will improve the options for individuals with disabilities to obtain, retain, and advance in employment through VR services.

Intergovernmental Review: This program is not subject to Executive Order 12372 and the regulations in 34 CFR part 79.

Accessible Format: Individuals with disabilities can obtain this document in an accessible format (e.g., braille, large print, audiotape, or computer diskette) on request by contacting the Grants and Contracts Services Team, U.S. Department of Education, 400 Maryland Avenue, SW., Room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 11, 2010.
Alexa Posny,
Assistant Secretary for Special Education and Rehabilitative Services.

[FR Doc. 2010-11616 Filed 5-13-10; 8:45 am]

BILLING CODE 4000-01-P